ENVIRONMENTAL PROTECTION AGENCY

40 CFR Part 82

[FRL-7815-7]

Protection of Stratospheric Ozone: Process for Exempting Critical Uses From the Phaseout of Methyl Bromide; Extension of Deadline To Request a Hearing, New Hearing Date, and New Deadline for Submission of Comments

AGENCY: Environmental Protection Agency (EPA).

ACTION: Proposed rule; extension of comment deadline; and new hearing date.

SUMMARY: With this document, EPA is advising individuals of an extension of the deadline to request a hearing, of the new hearing date, and of the revised deadline for submitting comments to the Agency on the notice of proposed rulemaking (NPRM) entitled “Protection of Stratospheric Ozone: Process for Exempting Critical Uses from the Phaseout of Methyl Bromide” published in the Federal Register on August 25, 2004 (69 FR 52366). At the request of members of the public, EPA has extended the date for the hearing and has scheduled a hearing to take place on Monday, September 20th in Washington, DC at EPA headquarters, 1201 Constitution Avenue (EPA East), Room 1153 from 1-5 p.m. The revised deadline for submitting comments on the NPRM therefore will change from Tuesday, October 12th to Thursday, October 21st.

The proposed exemption to the phaseout of methyl bromide for critical uses is allowed under section 604 of the Clean Air Act ( CAA) and the Montreal Protocol on Substances that Deplete the Ozone Layer (“Montreal Protocol”).

DATES: The new deadline to request a hearing is September 17, 2004. A hearing has been requested and is scheduled to take place on September 20, 2004. The revised deadline to submit comments on the NPRM to the Agency is October 21, 2004.

FOR FURTHER INFORMATION CONTACT: For further information about the hearing, contact Hodayah Finman by telephone at (202) 343-9246, or by e-mail at finman.hodayah@epa.gov, or by mail at Hodayah Finman, U.S. Environmental Protection Agency, Stratospheric Protection Division, Stratospheric Program Implementation Branch (6205J), 1200 Pennsylvania Avenue, NW., Washington, DC, 20460. Overnight or courier deliveries should be sent to 1310 L Street, NW., Washington, DC, 20005, Attn: Hodayah Finman at 343-9410. You may also visit the methyl bromide phaseout web site of EPA's Stratospheric Protection Division at http://www.epa.gov/ozone/mbr for further information about the critical use exemption.

Dated: September 14, 2004.
Drusilla Hufford,
Director, Stratospheric Protection Division.

[FR Doc. 04-21053 Filed 9-17-04; 11:35 am]

BILLING CODE 6560-50-P